DEPARTMENT OF JUSTICE

Executive Office for Immigration Review

[EOIR No. 151]

Notice of Relocation

AGENCY: Executive Office for Immigration Review.

ACTION: Notice

SUMMARY: Notice is hereby given that the Office of the Clerk of the Board of Immigration Appeals, Executive Office for Immigration Review, is moving to a new location.

EFFECTIVE DATE: This notice is effective August 29, 2005.

FOR FURTHER INFORMATION CONTACT: MaryBeth Keller, General Counsel, Executive Office for Immigration Review, 5107 Leesburg Pike, Suite 2600, Falls Church, Virginia 22041, (703) 305-0470.

SUPPLEMENTARY INFORMATION: The new street address for the Office of the Clerk is: 5107 Leesburg Pike, Suite 2000, Falls Church, VA 22041. The mailing address is: Office of the Clerk, P.O. Box 8530, Falls Church, VA 22041. The main telephone namer is (703) 605-1007. Public window hours are 8 a.m. to 4:30 p.m. The Internet site for all components of the Executive Office for Immigration Review continues to be http://www.usdoj.gov/eoir/.

Dated: August 4, 2005.
MaryBeth Keller,
General Counsel, Executive Office for Immigration Review.

[FR Doc. 05-15976 Filed 8-11-05; 8:45 am]

BILLING CODE 4410-30-M